DEPARTMENT OF JUSTICE

Parole Commission

Public Announcement Pursuant to the Government in the Sunshine Act (Pub. L. 94-409) (5 U.S.C. 552b)

Time and Date: 10 a.m., Monday, June 26, 2006.

Place: 5550 Friendship Blvd., Fourth Floor, Chevy Chase, MD 20815.

Status: Open.

Matters To Be Considered: The meeting is being held to discuss the agency's budget proposal for the fiscal year 2008.

Agency Contact: Thomas W. Hutchison, Chief of Staff, United States Parole Commission. (301) 492-5959.

Dated: June 19, 2006.
Pamela Posch,
Acting General Counsel, U.S. Parole Commission.

[FR Doc. 06-5617 Filed 6-20-06; 10:07 am]

BILLING CODE 4410-31-M